DEPARTMENT OF HOMELAND SECURITY

U.S. Customs and Border Protection

Reopening of Application Period for Participation in the Air Cargo Advance Screening (ACAS) Pilot Program

Correction

In notice document 2012-30922, appearing on page 76064 in the issue of Wednesday, December 26, 2012, make the following correction:

In the second column, in the first line, “January 8, 2013” is corrected to read “January 10, 2013”.

In the third column, in the 8th line, “January 8, 2013” is corrected to read “January 10, 2013”.

[FR Doc. C1-2012-30922 Filed 1-2-13; 8:45 am]

BILLING CODE 1505-01-D